FEDERAL EMERGENCY MANAGEMENT AGENCY

[FEMA-1425-DR]

Texas; Amendment No. 1 to Notice of a Major Disaster Declaration

AGENCY: Federal Emergency Management Agency (FEMA).

ACTION: Notice.

SUMMARY: This notice amends the notice of a major disaster declaration for the State of Texas, (FEMA-1425-DR), dated July 4, 2002, and related determinations.

EFFECTIVE DATE: July 4, 2002.

FOR FURTHER INFORMATION CONTACT: Rich Robuck, Readiness, Response and Recovery and Directorate, Federal Emergency Management Agency, Washington, DC 20472, (202) 646-2705 or Rich.Robuck@fema.gov.

SUPPLEMENTARY INFORMATION: The notice of a major disaster declaration for the State of Texas is hereby amended to include Public Assistance, limited to Category A (debris removal), and Category B (emergency protective measures), including direct Federal assistance for the following areas among those areas determined to have been adversely affected by the catastrophe declared a major disaster by the President in his declaration of July 4, 2002:

Bexar, Blanco, Comal, Hays, Kerr and Medina Counties for Public Assistance, limited to Category A (debris removal) and Category B (emergency protective measures), including direct Federal assistance (already designated for Individual Assistance).

Bandera, Gillespie, Kendall and Uvalde Counties for Individual Assistance and Public Assistance, limited to Category A (debris removal) and Category B (emergency protective measures), including direct Federal assistance.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)

Joe M. Allbaugh,
Director.

[FR Doc. 02-17553 Filed 7-11-02; 8:45 am]

BILLING CODE 6718-02-P